DEPARTMENT OF LABOR

Employment and Training Administration

[TA-W-65,322; TA-W-65,322A; TA-W-65,322B; TA-W-65,322C]

Notice of Termination of Investigation

TA-W-65,322, Dodger Industries, Inc., Eldora, Iowa

TA-W-65,322A, Dodger Industries, Inc., Raleigh, North Carolina

TA-W-65,322B, Dodger Industries, Inc., Clinton, North Carolina

TA-W-65,322C, Dodger Industries, Inc., Fayetteville, North Carolina

In accordance with Section 221 of the Trade Act of 1974, as amended, an investigation was initiated on February 20, 2009 in response to a petition filed by a company official on behalf of workers of Dodger Industries, Inc., Eldora, Iowa, Raleigh, North Carolina, Clinton, North Carolina, and Fayetteville, North Carolina.

The petitioner has requested that the petition be withdrawn. Consequently, the investigation has been terminated.

Signed in Washington, DC, this 27th day of March 2009.
Richard Church,
Certifying Officer, Division of Trade Adjustment Assistance.

[FR Doc. E9-10221 Filed 5-4-09; 8:45 am]

BILLING CODE 4510-FN-P